DEPARTMENT OF ENERGY

[Docket No. EA-179-A]

Application To Export Electric Energy; California Power Exchange Corporation

AGENCY: Office of Fossil Energy, DOE.

ACTION: Notice of application.

SUMMARY: California Power Exchange Corporation (CaLPX) has applied for renewal of its authority to transmit electric energy from the United States to Mexico pursuant to section 202(e) of the Federal Power Act.

DATES: Comments, protests or requests to intervene must be submitted on or before May 26, 2000.

ADDRESSES: Comments, protests or requests to intervene should be addressed as follows: Office of Coal & Power Im/Ex (FE-27), Office of Fossil Energy, U.S. Department of Energy, 1000 Independence Avenue, SW, Washington, DC 20585-0350 (FAX 202-287-5736).

FOR FURTHER INFORMATION CONTACT: Rosalind Carter (Program Office) 202-586-7983 or Michael Skinker (Program Attorney) 202-586-2793.

SUPPLEMENTARY INFORMATION: Exports of electricity from the United States to a foreign country are regulated and require authorization under section 202(e) of the Federal Power Act (FPA) (16 U.S.C. 824a(e)).

On May 29, 1998, the Office of Fossil Energy (FE) of the Department of Energy (DOE) authorized CaLPX to transmit electric energy from the United States to Mexico using the international electric transmission facilities of San Diego Gas and Electric Company. That two-year authorization will expire on May 29, 2000. On March 29, 2000, CaLPX filed an application with FE for renewal of this export authority and requested that the order be issued for a 5-year term.

DOE notes that the circumstances described in this application are virtually identical to those for which export authority had previously been granted in FE Order EA-179. Consequently, DOE believes that it has adequately satisfied its responsibilities under the National Environmental Policy Act of 1969 through the documentation of a categorical exclusion in the FE Docket EA-179 proceeding.

Procedural Matters

Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on the CaLPX application to export electric energy to Mexico should be clearly marked with Docket #EA-179-A. Additional copies are to be filed directly with Scott Rasmussen, General Counsel, California Power Exchange Corp., 200 South Robles Avenue, Suite 400, Pasadena, CA 91101 and Edwin F. Feo, Esq., Milbank, Tweed, Hadley & McCloy LLP, 601 South Figueroa, Suite 3000, Los Angeles, CA 90017.

Copies of this application will be made available, upon request, for public inspection and copying at the address provided above or by accessing the Fossil Energy Home Page at http://www.fe.doe.gov. Upon reaching the Fossil Energy Home page, select “Electricity”, then “Pending Proceedings” from the options menus.

Issued in Washington, DC, on April 20, 2000.
Anthony J. Como,
Deputy Director, Electric Power Regulation, Office of Coal & Power Im/Ex, Office of Coal & Power Systems, Office of Fossil Energy.

[FR Doc. 00-10367 Filed 4-25-00; 8:45 am]

BILLING CODE 6450-01-P